NATIONAL SCIENCE FOUNDATION

Special Emphasis Panel in Astronomical Sciences; Notice of Meeting

In accordance with the Federal Advisory Committee Act (Pub. L. 92-463, as amended), the National Science Foundation announces the following meetings of the Special Emphasis Panel in Astronomical Sciences (1186):

Date and Time: November 30-December 1, 2000, 9 a.m.-5 p.m.; December 7-8, 2000, 9 a.m.-5 p.m.

Place: National Science Foundation, 4201 Wilson Blvd, Arlington, VA.

Type of Meeting: Closed.

Contact Person: Dr. James Breckinridge, Program Manager, Advanced Technologies and Instrumentation, Division of Astronomical Sciences, National Science Foundation, 4201 Wilson Boulevard, Room 1045, Arlington, VA 22230. Telephone: (703) 292-4892.

Purpose of Meeting: To provide advice and recommendations concerning proposals submitted to NSF for financial support.

Agenda: To review and evaluate proposals submitted to the Advanced Technologies and Instrumentation Program as part of the selection process for awards.

Reason for Closing: The proposals being reviewed include information of a proprietary or confidential nature, including technical information; financial data, such as salaries; and personal information concerning individuals associated with the proposals. These matters are exempt under 3 U.S.C. 552b(c), (4) and (6) of the Government in the Sunshine Act.

Dated: November 6, 2000.
Karen J. York,
Commiittee Management Office.

[FR Doc. 00-28782 Filed 11-8; 8:45 am]

BILLING CODE 7555-01-M